DEPARTMENT OF HOMELAND SECURITY

Federal Emergency Management Agency

44 CFR Part 67

[Docket ID FEMA-2013-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in feet (MLLW) Modified | Communities affected
City and Borough of Juneau, Alaska
Docket No.: FEMA-B-1182
Auke Bay | At Smugglers Cove, approximately 640 feet southeast of the intersection of Fox Farm Trail and Fritz Cove Road | ‸ 25 | City and Borough of Juneau.
| Approximately 550 feet northeast of the intersection of Point Louisa Road and Glacier Highway | ‸ 27
| At the Auke Bay ferry terminal | ‸ 29
Duck Creek | At the downstream side of Radcliffe Road | ‸ 23 | City and Borough of Juneau.
| Approximately 350 feet upstream of Taku Boulevard | ‸ 52
East Fork Duck Creek | Approximately 150 feet downstream of Nancy Street | ‸ 34 | City and Borough of Juneau
| Approximately 200 feet downstream of Trinity Drive | ‸ 34
Fritz Cove | At the southern end of Mendenhall Peninsula | ‸ 23 | City and Borough of Juneau.
| Approximately 870 feet south of the intersection of Fritz Cove Road and Fox Farm Trail | ‸ 26
Gastineau Channel, Douglas Island Side | At the north end of Douglas Island, opposite the airport | ‸ 23 | City and Borough of Juneau.
| At the west end of Douglas Island, west of North Douglas Road | ‸ 25
| At the Paris Creek confluence | ‸ 25
| At the eastern end of Juneau Island next to Douglas Marina | ‸ 29
Gastineau Channel, Juneau Side | Approximately 0.3 mile southeast of the intersection of Engineers Cutoff Road and Mendenhall Peninsula Road | ‸ 25 | City and Borough of Juneau.
| Approximately 0.5 mile southwest of the intersection of Point Lena Loop Road and Towers Road | ‸ 26
| At the end of Thane Road, at the Little Sheep Creek confluence | ‸ 27
| Approximately 0.55 mile southeast of the intersection of Mill Street and Thane Road | ‸ 28
Jordan Creek | Approximately 1,080 feet downstream of Yandukin Drive | ‸ 25 | City and Borough of Juneau.
| Approximately 0.23 mile upstream of Egan Drive | ‸ 31
Lemon Creek | Approximately 0.27 mile downstream of Glacier Highway | ‸ 23 | City and Borough of Juneau.
| Approximately 1.4 miles upstream of Glacier Highway | ‸ 106
Mendenhall River | Approximately 1.14 miles downstream of Glacier Highway | ‸ 23 | City and Borough of Juneau.
| At the upstream side of Mendenhall Loop Road | ‸ 56
Unnamed Tributary to Duck Creek | At the downstream side of El Camino Street | ‸ 42 | City and Borough of Juneau.
| At the upstream side of Mendenhall Loop Road | ‸ 46
* National Geodetic Vertical Datum.
+ North American Vertical Datum.
# Depth in feet above ground.
‸ Mean Lower Low Water.
ADDRESSES
City and Borough of Juneau
Maps are available for inspection at 155 South Seward Street, Juneau, AK 99801.

(Catalog of Federal Domestic Assistance No. 97.022, “Flood Insurance.”)

Dated: July 12, 2013.
Roy E. Wright,
Deputy Associate Administrator for Mitigation, Department of Homeland Security, Federal Emergency Management Agency.

[FR Doc. 2013-18248 Filed 7-29-13; 8:45 am]

BILLING CODE 9110-12-P